DEPARTMENT OF TRANSPORTATION

[Docket No. DOT-OST-2021-0004]

Request for Comments on Draft Strategic Plan on Accessible Transportation

AGENCY: Office of the Secretary of Transportation (OST), Department of Transportation.

ACTION: Notice; request for comments (RFC).

SUMMARY: The U.S. Department of Transportation (DOT) seeks public comment on a draft Strategic Plan on Accessible Transportation. The proposed document guides the DOT's efforts to create a transportation system that is inclusive of people with disabilities. The document may be found on the Federal regulations website at http://www.regulations.gov as an attachment to Docket No. DOT-OST-2021-0004.

DATES: Individuals who are interested in submitting comments must do so by February 16, 2021, no later than 5:00 p.m. (ET), to receive full consideration by DOT for incorporation into the final Strategic Plan on Accessible Transportation.

ADDRESSES: Written comments may be submitted using any one of the following methods:

• Electronic mail: Email comments to the monitored inbox at usdotaccessibility@dot.gov. Responses must be provided as attachments to an email. It is recommended that attachments with file sizes exceeding 25MB be compressed (i.e., zipped) to ensure message delivery. Responses must be provided as a Microsoft Word (.docx) attachment to the email, and be no more than 10 pages in length, with 12-point font and 1-inch margins.

• Internet: To submit comments electronically, go to the Federal regulations website at http://www.regulations.gov. Search by using the docket number (DOT-OST-2021-0004). Follow the online instructions for submitting comments.

Please identify Docket No. DOT-OST-2021-0004 at the beginning of your comments. DOT will not respond to individual submissions or publish publicly a compendium of responses. In accordance with 5 U.S.C. 553(c), the DOT solicits comments from the public to better inform its rulemaking process. The DOT posts these comments without edit, including any personal information the commenter provides, to https://www.regulations.gov, as described in the system of records notice (DOT/ALL-14 FDMS), which can be reviewed at https://www.dot.gov/privacy.

Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 CFR 190.343, you may ask DOT to provide confidential treatment to information you give to the agency by taking the following steps: (1) Mark each page of the original document submission containing CBI as “Confidential;” (2) send DOT a copy of the original document with the CBI deleted along with the original, unaltered document; and (3) explain why the information you are submitting is CBI. Unless you are notified otherwise, DOT will treat such marked submissions as confidential under the Freedom of Information Act and they will not be placed in the public docket of this notice. Submissions containing CBI should be sent to usdotaccessibility@dot.gov. Any commentary DOT receives that is not specifically designated as CBI will be placed in the public docket for this guidance.

FOR FURTHER INFORMATION CONTACT: Ariel Gold, Transportation Policy Analyst, at Ariel.Gold@dot.gov or 202-695-6833, with a courtesy copy to usdotaccessibility@dot.gov.

Please reference “Strategic Plan on Accessible Transportation RFC” in the subject line when submitting your response.

DOT looks forward to your submission in response to this notice.

SUPPLEMENTARY INFORMATION: The Strategic Plan on Accessible Transportation lays out the Department's vision of amultimodaltransportation system that is inclusive of people with disabilities. It is the first plan of its type in the Department, and covers a five-year period from 2021 through 2025. Broad strategic goals are supported by objectives, which are in turn expanded upon in several strategies. Select examples of current and future activities by DOT Operating Administrations and the Office of the Secretary are shown for illustrative purposes.

Secretary of Transportation Elaine L. Chao announced the intention to develop the Department's first accessibility strategic plan at the Access and Mobility for All Summit on October29, 2019. Aframework for this plan was presented to the public atthe virtual event, Breaking Down Barriers: Celebrating the 30thAnniversary of the Americans with Disabilities Act, on July 30, 2020. An online forum engaged the public on the framework in August 2020, generating 128 ideas from 1,123 participants overa three-week period. The Strategic Plan on Accessible Transportation is consistent with related documents, such as the DOT Strategic Plan for FY 2018-2022 and DOT Research, Development, and Technology Strategic Plan FY 2017-2021.

Issued on: January 12, 2021.
Thomas Finch Fulton,
Deputy Assistant Secretary for Transportation Policy.

[FR Doc. 2021-00871 Filed 1-14-21; 8:45 am]

BILLING CODE 4910-9X-P